ENVIRONMENTAL PROTECTION AGENCY

[FRL-7431-9]

Federal Agency Hazardous Waste Compliance Docket

Correction

In notice document 02-32908 beginning on page 107 in the issue of Thursday, January 2, 2003, make the following corrections:

1. On page 111, in the table titled FEDERAL AGENCY HAZARDOUS WASTE COMPLIANCE DOCKET UPDATE #16—ADDITIONS, under the column “Facility name”, in the fifth entry, “Gllenns” should read “Glenns”.

2. On the same page, in the table titled FEDERAL AGENCY HAZARDOUS WASTE COMPLIANCE DOCKET UPDATE #16—DELETIONS, under the column “Facility name”, in the fourth entry, “Clairborne” should read “Claiborne”.

3. On page 112, in the table titled FEDERAL AGENCY HAZARDOUS WASTE COMPLIANCE DOCKET UPDATE #16—CORRECTIONS, under the column “Code”, in the fourth entry, “12” should read “23”.

4. On the same page, in the same table, under the column “Address”, in the 13th entry, “R8AE” should read “R8E”.

5. On the same page, in the same table, under the same column, in the 14th entry, “R8AE” should read “R8E”.

6. On the same page, in the same table, under the same column, in the 17th entry, “36E” should read “37E”.

7. On the same page, in the same table, under the same column, in the 18th entry, “36E” should read “37E”.

8. On the same page, in the same table, under the same column, in the last entry, in the third line, “of Tulelake” should be removed.

9. On page 113, in the table, under the column, “Address”, in the third entry, “Woodlsey” should read “Woolsey”.

10. On page 114, in the table, under the column, “City”, in the 11th entry, “Natick 0” should read “Natick”.

11. On the same page, in the same table, under the column, “Facility Name”, in the 15th entry, “Doi” should read “DOI”.

12. On page 115, in the table, under the column, “Facility Name”, in the third entry, “U.S. Defense Fuel Support Support Point” should read “U.S. Defense Fuel Support Point”.

13. On page 116, in the table, under the column, “Facility name”, in the second through 14th entries, “Bia” should read “BIA”.

14. On the same page, in the same table, under the same column, in the 23rd entry, “BLM-Glass Buttes” should read “BLM-Glass Buttes Retorts”.

15. On page 118, in the table, under the column, “Address”, in the eighth entry, “Capital” should read “Capitol”.

16. On the same page, in the same table, under the same column, in the 21st entry, “O=’.’” should be removed.

[FR Doc. C2-32908 Filed 1-17-03; 8:45 am]

BILLING CODE 1505-01-D

FEDERAL RETIREMENT THRIFT INVESTMENT BOARD

Sunshine Act Meeting

Correction

In notice document 03-601 appearing on page 1511 in the issue of Friday, January 10, 2003 make the following correction:

In the third column, the agency heading should read as set forth above.

[FR Doc. C3-601 Filed 1-17-03; 8:45 am]

BILLING CODE 1505-01-D